DEPARTMENT OF EDUCATION

[Docket No.: ED-2015-ICCD-0128]

Agency Information Collection Activities; Submission to the Office of Management and Budget for Review and Approval; Comment Request; Perkins Discretionary Grant Performance Report

AGENCY: Office of Career Technical and Adult Education (OCTAE), Department of Education (ED).

ACTION: Notice.

SUMMARY: In accordance with the Paperwork Reduction Act of 1995 (44 U.S.C. chapter 3501 et seq.), ED is proposing an extension of an existing information collection.

DATES: Interested persons are invited to submit comments on or before February 10, 2016.

ADDRESSES: To access and review all the documents related to the information collection listed in this notice, please use http://www.regulations.gov by searching the Docket ID number ED-2015-ICCD-0128. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E115, Washington, DC 20202-4537.

FOR FURTHER INFORMATION CONTACT: For specific questions related to collection activities, please contact Laura Messenger, 202-245-7840.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Perkins Discretionary Grant Performance Report.

OMB Control Number: 1830-0574.

Type of Review: An extension of an existing information collection.

Respondents/Affected Public: State, Local and Tribal Governments.

Total Estimated Number of Annual Responses: 88.

Total Estimated Number of Annual Burden Hours: 1,556.

Abstract: The purpose of this information collection package—the Perkins Discretionary Grant Performance Report—is to gather narrative, financial, and performance data on all discretionary programs administered by the Office of Career, Technical, and Adult Education's Division of Academic and Technical Education (OCTAE-DATE), as required by the Education Department General Administrative Regulations (EDGAR 34 CFR 74.51, 74.52, 75.118, 75.253, 75.590, and 80.40). The Perkins Discretionary Grant Performance Report will be used by all OCTAE-DATE discretionary grant recipients in lieu of the ED 524B Grant Performance Report and Instructions because the ED 524B is not compatible with OCTAE-DATE's Perkins Information Management System.

The Perkins Discretionary Grant Performance Report is (a) submitted electronically via OCTAE-DATE's Perkins Web Portal; (b) stored in OCTAE-DATE's Improving Program Performance Database; and (c) accessed through OCTAE-DATE's Perkins Information Management System (PIMS). The Perkins Information Management System includes an administrative console that enables OCTAE-DATE staff to—a) query the system by grantee, by program, and by state; (b) view narrative, financial, and performance data within and across programs; and (c) create customized reports.

The Perkins Discretionary Grant Performance Report is a generic, single reporting instrument that combines all of the EDGAR performance and financial reporting requirements for discretionary grant recipients funded under the Carl D. Perkins Career and Technical Education Act of 2006 (P.L. 109-270). Recipients of multi-year discretionary grants must submit interim performance reports, usually annually, for each year funding has been approved in order to receive a continuation award. The annual performance report should demonstrate whether substantial progress has been made toward meeting the approved goals and objectives of the project. OCTAE-DATE also requires recipients of “forward funded” grants that are awarded funds for their entire multi-year project up-front in a single grant award to submit an annual performance report.

Dated: January 5, 2016.
Tomakie Washington,
Acting Director, Information Collection Clearance Division, Office of the Chief Privacy Officer, Office of Management.

[FR Doc. 2016-00264 Filed 1-8-16; 8:45 am]

BILLING CODE 4000-01-P